SECURITIES AND EXCHANGE COMMISSION

Sunshine Act Meeting.

Federal Register CITATION OF PREVIOUS ANNOUNCEMENT: [78 FR 101, Friday, May 24, 2013].

STATUS: Closed Meeting

PLACE: 100 F Street NW. Washington, DC

DATE AND TIME OF PREVIOUSLY ANNOUNCED MEETING: May 30, 2013.

CHANGE IN THE MEETING: Deletion of Item.

The following item will not be considered during the Closed Meeting on Thursday, May 30, 2013:

An adjudicatory matter

At times, changes in Commission priorities require alterations in the scheduling of meeting items. For further information and to ascertain what, if any, matters have been added, deleted or postponed, please contact the Office of the Secretary at (202) 551-5400.

Dated: May 29, 2013.
Elizabeth M. Murphy,
Secretary.

[FR Doc. 2013-13031 Filed 5-29-13; 4:15 pm]

BILLING CODE 8011-01-P